DEPARTMENT OF THE INTERIOR

Fish and Wildlife Service

[FWS-R2-ES-2011-N183; 21450-1113-0000-C2]

Final Recovery Plan, Bexar County Karst Invertebrates

AGENCY: Fish and Wildlife Service, Interior.

ACTION: Notice of document availability.

SUMMARY: We, the Fish and Wildlife Service, announce the availability of our final recovery plan, for the nine Bexar County Karst Invertebrates under the Endangered Species Act of 1973, as amended (Act). These species occur in Bexar County, Texas.

ADDRESSES: You may download the recovery plan from the internet at http://www.fws.gov/endangered/species/recovery-plans.html, or you may obtain a copy from Cyndee Watson, U.S. Fish and Wildlife Service, 10711 Burnet Road, Suite #200, Austin, TX (512-490-0057 ext. 223).

FOR FURTHER INFORMATION CONTACT: Adam Zerrenner, at the above address; by phone at 512-490-0057, ext. 249; or by e-mail at Adam_Zerrenner@fws.gov.

SUPPLEMENTARY INFORMATION:

Background

Recovering endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

The following nine Bexar County karst invertebrates were listed as endangered species on December 26, 2000 (65 FR 81419): Rhadine exilis, R. infernalis, Batrisodes venyivi, Texella cokendolpheri, Neoleptoneta microps, Cicurina baronia, C. madla, C. venii, and C. vespera. These invertebrates are troglobites, spending their entire lives underground. They inhabit caves and mesocaverns (humanly impassable voids in karst limestone) in Bexar County, Texas. They are characterized by small or absent eyes and pale coloration.

Final Recovery Plan

The final recovery plan includes scientific information about the species and provides objectives and actions needed to recover the Bexar County karst invertebrates and to ultimately remove them from the list of threatened and endangered species. It also has incorporated public and peer review comments as applicable. Recovery actions designed to achieve these objectives include reducing threats to the species by securing an adequate quantity and quality of habitat. This includes selecting caves or cave clusters that represent the range of the species and potential genetic diversity for the nine species, and then preserving these karst habitats, including their drainage basins and surface communities upon which they rely. Some of the changes from the draft recovery plan include changes in the acreage requirements for medium and high quality preserves as well as the configuration of the preserves required to meet the recovery criteria. Because many aspects of the population dynamics and habitat requirements of the species are poorly understood, recovery is also dependant on incorporating research findings into adaptive management actions. Because three of these species are known to occur in only one cave, full recovery may not be possible for these species.

Authority

We developed our final recovery plan under the authority of section 4(f) of the Act, 16 U.S.C. 1533(f). We publish this notice under section 4(f) Endangered Species Act of 1973, as amended (16 U.S.C. 1531 et seq.).

Authority: 16 U.S.C. 1531 et seq.

Dated: September 13, 2011.
Joy E. Nicholopoulos,
Acting Regional Director, Southwest Region, Fish and Wildlife Service.

[FR Doc. 2011-25483 Filed 10-3-11; 8:45 am]

BILLING CODE 4310-55-P